DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On July 28, 2021, OFAC determined that the property and interests in property subject to U.S. jurisdiction of the following persons are blocked under the relevant sanctions authority listed below.

Individuals

1. AL-SHABAN, Hasan (a.k.a. ALSHABAN, Hasan Suliman), Manbij, Syria; Sahinbey, Gaziantep, Turkey; DOB 07 Jan 1987; nationality Syria; Gender Male; Passport 02812L004397 (Syria); Identification Number 02120304806 (Syria); alt. Identification Number N006695928 (Syria); alt. Identification Number 99071138750 (Turkey) (individual) [SDGT].

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, AL-QA'IDA, a person whose property and interests in property are blocked pursuant to E.O. 13224, as amended.

2. FAYZIMATOV, Farrukh Furkatovitch (a.k.a. AL-SHAMI, Faruk; a.k.a. ASH-SHAMI, Faruk; a.k.a. FAYZIMATOV, Faruk Furkatovich; a.k.a. SHAMI, Faruk; a.k.a. SHAMI, Faruq (Cyrillic: ШАМИ, Fapyk)), Idlib, Syria; DOB 02 Mar 1996; citizen Tajikistan; Gender Male; Digital Currency Address—XBT 17a5bpKvEp1j1Trs4qTbcNZrby53JbaS9C (individual) [SDGT].

Designated pursuant to section 1(a)(iii)(C) of E.O. 13224, as amended, for having materially assisted, sponsored, or provided financial, material, or technological support for, or goods or services to or in support of, HAY'ET TAHRIR AL-SHAM, a person whose property and interests in property are blocked pursuant to E.O. 13224, as amended.

Dated: July 28, 2021.
Andrea M. Gacki,
Director, Office of Foreign Assets Control, U.S. Department of the Treasury.

[FR Doc. 2021-17599 Filed 8-16-21; 8:45 am]

BILLING CODE 4810-AL-P